ENVIRONMENTAL PROTECTION AGENCY

40 CFR Part 300

[FRL-7039-6]

National Oil and Hazardous Substance Pollution Contingency Plan; National Priorities List

AGENCY: Environmental Protection Agency.

ACTION: Notice of deletion of the Schuylkill Metals Corporation Superfund Site from the National Priorities List (NPL).

SUMMARY: The Environmental Protection Agency (EPA) Region 4 announces the deletion of the Schuylkill Metals Corporation Superfund Site from the National Priorities List (NPL). The NPL constitutes appendix B of 40 CFR part 300 which is the National Oil and Hazardous Substances Pollution Contingency Plan (NCP), which EPA promulgated pursuant to section 105 of the Comprehensive Environmental Response, Compensation, and Liability Act of 1980 (CERCLA), as amended. EPA and the Florida Department of Environmental Protection (FDEP) have determined that the Site poses no significant threat to public health or the environment and therefore, further response measures pursuant to CERCLA are not appropriate.

EFFECTIVE DATE: August 22, 2001.

ADDRESSES: Comprehensive information on this site is available through the EPA Region 4 public docket, which is available for viewing at the information repositories at two locations. Locations, contacts, phone numbers and viewing hours are: U.S. EPA Region 4 Records Center, attn. Ms. Debbie Jourdan, Atlanta Federal Center, 61 Forsyth Street, Atlanta, Georgia 30303-8909, (404) 562-8862, hours: 8:00 a.m. to 4:00 p.m., Monday through Friday by appointment only;

Bruton Memorial Library, 302 McLendon Street, Plant City, Florida 33566-3299, (813) 757-9215, hours: 9:00 a.m. to 9:00 p.m., Monday through Thursday 9:00 a.m. to 6:00 p.m., Friday 10:00 a.m. to 6:00 p.m., Saturday, closed, Sunday.

FOR FURTHER INFORMATION CONTACT: Galo Jackson, U.S. EPA Region 4, Mail Code: WD-SSMB, Atlanta Federal Center, 61 Forsyth Street, S.W., Atlanta, Georgia 30303-8960, (404) 562-8937.

SUPPLEMENTARY INFORMATION: EPA announces the deletion of the Schuylkill Metals Corporation Superfund Site in Plant City, Hillsborough County, Florida from the NPL, which constitutes appendix B of 40 CFR part 300. EPA published a Notice of Intent to Delete the Schuylkill Metal Corporation Superfund Site from the NPL on June 12, 2001 in the Federal Register, (66 FR 31580). EPA received no comments on the proposed deletion; therefore, no responsiveness summary is necessary for this Notice of Deletion.

EPA identifies sites on the NPL that appear to present a significant risk to public health, welfare, or the environment. Sites on the NPL may be the subject to remedial actions financed by the Hazardous Substances Superfund Response Trust Fund (Fund). Pursuant to 40 CFR 300.425(e)(3) of the NCP, any site deleted from the NPL remains eligible for Fund-financed Remedial Actions if conditions at the site warrant such action. Deletion of a site from the NPL does not affect the responsible party liability or impede agency efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: August 5, 2001.
Russell Wright,
Acting Regional Administrator, Region 4.

For reasons set out in the preamble, 40 CFR part 300 is amended as follows:

PART 300—[AMENDED]

1. The authority citation for part 300 continues to read as follows:

Authority: 33 U.S.C. 1321 (c) (2); 42 U.S.C. 9601-9657; E.O. 12777, 56FR 54757, 3 CFR, 1991 Comp.; p. 351: E.O. 12580, 52 FR 2923, 3CFR, 1987 Comp.; p.193.

Appendix B—[Amended]

2. Table 1 of appendix B to part 300 is amended by removing the site “Schuylkill Metals Corp., Plant City, Florida.”

[FR Doc. 01-20896 Filed 8-21-01; 8:45 am]

BILLING CODE 6560-50-P